DEPARTMENT OF THE INTERIOR

Bureau of Reclamation

[RR83550000, 201R5065C6, RX.59389832.1009676]

Quarterly Status Report of Water Service, Repayment, and Other Water-Related Contract Actions

AGENCY: Bureau of Reclamation, Interior.

ACTION: Notice of contract actions.

SUMMARY: Notice is hereby given of contractual actions that have been proposed to the Bureau of Reclamation (Reclamation) and are new, discontinued, or completed since the last publication of this notice. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section of this notice.

FOR FURTHER INFORMATION CONTACT: Michelle Kelly, Reclamation Law Administration Division, Bureau of Reclamation, P.O. Box 25007, Denver, Colorado 80225-0007; mkelly@usbr.gov; telephone 303-445-2888.

SUPPLEMENTARY INFORMATION: Consistent with section 9(f) of the Reclamation Project Act of 1939, and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports

ARRA American Recovery and Reinvestment Act of 2009

BCP Boulder Canyon Project

Reclamation Bureau of Reclamation

CAP Central Arizona Project

CUP Central Utah Project

CVP Central Valley Project

CRSP Colorado River Storage Project

XM Extraordinary Maintenance

EXM Emergency Extraordinary Maintenance

FR Federal Register

IDD Irrigation and Drainage District

ID Irrigation District

M&I Municipal and Industrial

O&M Operation and Maintenance

OM&R Operation, Maintenance, and Replacement

P-SMBP Pick-Sloan Missouri Basin Program

RRA Reclamation Reform Act of 1982

SOD Safety of Dams

SRPA Small Reclamation Projects Act of 1956

USACE U.S. Army Corps of Engineers

WD Water District

Columbia-Pacific Northwest—Interior Region 9: Bureau of Reclamation, 1150 North Curtis Road, Suite 100, Boise, Idaho 83706-1234, telephone 208-378-5344.

The Columbia-Pacific Northwest Region has no updates to report for this quarter.

California-Great Basin—Interior Region 10: Bureau of Reclamation, 2800 Cottage Way, Sacramento, California 95825-1898, telephone 916-978-5250.

New contract actions:

53. Shasta County Water Agency, CVP, California: Proposed partial assignment of 50 acre-feet of the Shasta County Water Agency's CVP water supply to the City of Shasta Lake for M&I use.

54. Friant Water Authority, CVP, California: Negotiation and execution of a repayment contract for Friant Kern Canal Middle Reach Capacity Correction Project.

Discontinued contract action:

11. Mendota Wildlife Area, CVP, California: Reimbursement agreement between the California Department of Fish and Wildlife and Reclamation for conveyance service costs to deliver Level 2 water to the Mendota Wildlife Area during infrequent periods when the Mendota Pool is down due to unexpected but needed maintenance. This action is taken pursuant to Public Law 102-575, Title 34, Section 3406(d)(1), to meet full Level 2 water needs of the Mendota Wildlife Area.

17. Water user entities responsible for payment of O&M costs for Reclamation projects in California, Nevada, and Oregon: Contracts for extraordinary maintenance and replacement funded pursuant to ARRA. Added costs to rates to be collected under irrigation and interim M&I ratesetting policies.

Completed contract actions:

46. San Luis and Delta-Mendota Water Authority, CVP, California: Contract for repayment for XM and replacement funded pursuant to Subtitle G of Public Law 111-11. Contract executed June 29, 2020.

47. City of West Sacramento, CVP, California: Negotiation and execution of a 40-year long-term water service contract. Contact executed May 29, 2020.

Lower Colorado Basin—Interior Region 8: Bureau of Reclamation, P.O. Box 61470 (Nevada Highway and Park Street), Boulder City, Nevada 89006-1470, telephone 702-293-8192.

New contract action:

19. City of Yuma, BCP, Arizona: Extend the term of the contract with the City for delivery of its Colorado River water entitlement to October 1, 2027, through Amendment No. 6.

Discontinued contract action:

4. City of Yuma, BCP, Arizona: Enter into a long-term consolidated contract with the City for delivery of its Colorado River water entitlement.

Completed contract actions:

10. San Carlos Apache Tribe and the Town of Gilbert, CAP, Arizona: Execute a CAP water lease for San Carlos Apache Tribe to lease 13,068 acre-feet of its CAP water to the Town of Gilbert during calendar year 2020. Lease executed March 24, 2020.

12. San Carlos Apache Tribe and Stone Applications, LLC, CAP, Arizona: Execute a CAP water lease for San Carlos Apache Tribe to lease 10,000 acre-feet of its CAP water to Stone Applications, LLC during calendar year 2020. Lease executed March 25, 2020.

Upper Colorado Basin—Interior Region 7: Bureau of Reclamation, 125 South State Street, Room 8100, Salt Lake City, Utah 84138-1102, telephone 801-524-3864.

Completed contract actions:

26. Ft. Sumner ID, Carlsbad Project, New Mexico: Reclamation is seeking a contract to lease water from the District for the forbearance of exercising their priority water rights on the Pecos River. The contract proposal is for a term of 10 years and up to 3,500 acre-feet per year of forborne water to benefit endangered species and the Carlsbad Project. Contract executed December 23, 2019.

27. Pecos Valley Artesian Conservancy District, Carlsbad Project, New Mexico: Reclamation is seeking a contract to lease water from the District for the forbearance of surface water diversions from the Pecos River and the Hagerman Canal. This contract has a term of 10 years and up to 1,158 acre-feet of forborne water per year to benefit endangered species and the Carlsbad Project. Contract executed March 3, 2020.

28. The Jicarilla Nation, San Juan-Chama Project, New Mexico: Reclamation is seeking a multi-year contract to lease water with the Nation to stabilize flows in a critical reach of the Rio Grande in order to meet the needs of irrigators and the endangered silvery minnow. This contract has a 5-year term for up to 5,900 acre-feet of Project water per year. Contract executed March 20, 2020.

New contract action:

31. Navajo Tribal Utility Authority, Navajo-Gallup Water Supply Project, New Mexico: Reclamation is entering negotiations with the Navajo Tribal Utility Authority to provide excess capacity for non-project water, pursuant to Public Law 111-11, Section 10602(h).

Missouri Basin—Interior Region 5: Bureau of Reclamation, P.O. Box 36900, Federal Building, 2021 4th Avenue North, Billings, Montana 59101, telephone 406-247-7752.

New contract actions:

40. Griemsman L/S, LLC; Boysen Unit, P-SMBP; Wyoming: Consideration for renewal of water service contract No. 009E6A0012.

41. Glen Elder ID; Glen Elder Unit, P-SMBP; Kansas: Consideration of a repayment contract for XM funded pursuant to Subtitle G of Public Law 111-11.

43. H&RW ID; Frenchman-Cambridge Division, P-SMBP; Nebraska: Consideration for renewal of water service contract No. 5-07-70-W0738.

42. Milk River Joint Board of Control, Milk River Project, Montana: Consideration of a repayment contract for EXM funded pursuant to Subtitle G of Public Law 111-11.

Discontinued contract action:

34. Dickey-Sargent ID; Garrison Diversion Unit, P-SMBP; North Dakota: Consideration for a repayment contract for assigned power investment costs.

Completed contract action:

31. Fort Clark ID; Fort Clark Project, P-SMBP; North Dakota: Consideration for new 5-year water service contract to replace expiring contract No. 159E620073. Contract executed May 15, 2020.

Karl Stock,
Acting Director, Policy and Programs.

[FR Doc. 2020-18751 Filed 8-25-20; 8:45 am]

BILLING CODE 4332-90-P